DEPARTMENT OF TRANSPORTATION

Federal Aviation Administration

14 CFR Part 73

[Docket No. FAA-2023-2544; Airspace Docket No. 23-ASW-19]

RIN 2120-AA66

Amendment of Restricted Areas R-3801A, R-3801B, and R-3801C; Camp Claiborne, LA, and R-3803A, R-3803B, R-3803C, R-3803D, R-3803E, R-3803F, R-3804A, R-3804B, and R-3804C; Fort Polk, LA

AGENCY: Federal Aviation Administration (FAA), Department of Transportation (DOT).

ACTION: Final rule.

SUMMARY: This action updates the controlling agency of restricted areas R-3801A, R-3801B, and R-3801C, and updates the location name and the using agency of restricted areas R-3803A, R-3803B, R-3803C, R-3803D, R-3803E, R-3803F, R-3804A, R-3804B, and R-3804C. Additionally, this action makes minor editorial corrections to the designated altitudes information in the restricted area R-3801A, R-3801B, and R-3801C descriptions. This action partially implements recommendations of the Commission on the Naming of Items (Naming Commission) of the Department of Defense (DoD) as established by section 370 of the Fiscal Year (FY) 2021 National Defense Authorization Act (NDAA). These amendments do not affect the overall restricted area complexes boundaries, operational altitudes, times of designation, or activities conducted within the airspace.

DATES: Effective date 0901 UTC, March 21, 2024.

ADDRESSES: A copy of this final rule, and all background material may be viewed online at www.regulations.gov using the FAA Docket number. Electronic retrieval help and guidelines are available on the website. It is available 24 hours each day, 365 days each year.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes editorial updates the information in the airspace descriptions of restricted areas R-3801A, R-3801B, R-3801C, R-3803A, R-3803B, R-3803C, R-3803D, R-3803E, R-3803F, R-3804A, R-3804B, and R-3804C.

History

The FY 2021 NDAA directed the DoD to establish a commission relating to assigning, modifying, or removing of names, symbols, displays, monuments, and paraphernalia to assets of the DoD that commemorate the Confederate States of America or any person who served voluntarily with the Confederate States of America.¹ In January 2023, the Secretary of Defense directed all DoD organizations to begin full implementation of the Naming Commission's recommendations. As approved by the Secretary of Defense, the name “Fort Polk, LA” is changed to “Fort Johnson, LA”. Additionally, the “Fort Polk Approach Control” name is changed to “Maks Approach Control.” Consequently, this rulemaking action implements the requisite changes to part 73 by updating the controlling agency of restricted areas R-3801A, R-3801B, and R-3801C, and updating the location name and using agency of restricted areas R-3803A, R-3803B, R-3803C, R-3803D, R-3803E, R-3803F, R-3804A, R-3804B, and R-3804C. This action also makes minor editorial corrections to the designated altitudes information in the restricted area R-3801A, R-3801B, and R-3801C descriptions.

¹ Public Law 116-283, 134 Stat. 3388, Jan. 1, 2021.

The Rule

This action amends 14 CFR part 73 by updating the controlling agency information for restricted areas R-3801A, R-3801B, and R-3801C by removing “Fort Polk Approach Control” and replacing it with “Maks Approach Control”. This action also updates the restricted area location name and the using agency information for restricted areas R-3803A, R-3803B, R-3803C, R-3803D, R-3803E, R-3803F, R-3804A, R-3804B, and R-3804C by removing the name “Fort Polk, LA” and replacing it with “Fort Johnson, LA”.

Additionally, this action makes minor editorial corrections to the designated altitudes information in the restricted area R-3801 A, R-3801B, and R-3801C descriptions.

This action consists of administrative name changes and minor editorial corrections only and does not affect the restricted area complexes boundaries, operational altitudes, times of designation, or activities conducted within the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative name changes to the controlling agency of restricted areas R-3801A, R-3801B, and R-3801C, and administrative name changes to the geographic locations and using agency information of restricted areas R-3803A, R-3803B, R-3803C, R-3803D, R-3803E, R-3803F, R-3804A, R-3804B, and R-3804C, which do not alter the boundaries, altitudes, or time of designation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of <CFR>airspace areas, airways, routes, and reporting points (see 14 CFR part 71, Designation of Class A, B, C, D, and E Airspace Areas; Air Traffic Service Routes; and Reporting Points); and paragraph 5-6.5d, which categorically excludes from further environmental impact review modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g); 40103, 40113, 40120; E.O. 10854, 24 FR 9565, 3 CFR, 1959-1963 Comp., p. 389.

§ 73.38 Louisiana (LA) [Amended]

2. Section 73.38 is amended as follows:

R-3801A Camp Claiborne, LA [Amended]

By removing the existing designated altitudes and controlling agency and substituting the following:

Designated altitudes. Surface to but not including 10,000 feet MSL.

Controlling agency. U.S. Army, Maks Approach Control.

R-3801B Camp Claiborne, LA [Amended]

By removing the existing designated altitudes and controlling agency and substituting the following:

Designated altitudes. 10,000 feet MSL to but not including FL 180.

Controlling agency. U.S. Army, Maks Approach Control.

R-3801C Camp Claiborne, LA [Amended]

By removing the existing designated altitudes and controlling agency and substituting the following:

Designated altitudes. FL 180 to FL 230.

Controlling agency. U.S. Army, Maks Approach Control.

R-3803A Fort Polk, LA [Removed]

R-3803B Fort Polk, LA [Removed]

R-3803C Fort Polk, LA [Removed]

R-3803D Fort Polk, LA [Removed]

R-3803E Fort Polk, LA [Removed]

R-3803F Fort Polk, LA [Removed]

R-3804A Fort Polk, LA [Removed]

R-3804B Fort Polk, LA [Removed]

R-3804C Fort Polk, LA [Removed]

R-3803A Fort Johnson, LA [New]

Boundaries. Beginning at lat. 31°23′37″ N, long. 93°09′58″ W; to lat. 31°23′13″ N, long. 93°09′49″ W; to lat. 31°22′01″ N, long. 93°10′06″ W; to lat. 31°19′17″ N, long. 93°11′11″ W; to lat. 31°19′17″ N, long. 93°20′16″ W; to lat. 31°24′31″ N, long. 93°20′16″ W; to lat. 31°24′31″ N, long. 93°16′43″ W; to lat. 31°23′36″ N, long. 93°13′25″ W; to the point of beginning.

Designated altitudes. Surface to but not including FL 180.

Time of designation. By NOTAM issued at least 4 hours in advance.

Controlling agency. FAA, Houston ARTCC.

Using agency. U.S. Army, Joint Readiness Training Center, Fort Johnson, LA.

R-3803B Fort Johnson, LA [New]

Boundaries. Beginning at lat. 31°23′37″ N, long. 93°09′58″ W; to lat. 31°23′13″ N, long. 93°09′49″ W; to lat. 31°22′01″ N, long. 93°10′06″ W; to lat. 31°19′17″ N, long. 93°11′11″ W; to lat. 31°19′17″ N, long. 93°20′16″ W; to lat. 31°24′31″ N, long. 93°20′16″ W; to lat. 31°24′31″ N, long. 93°16′43″ W; to lat. 31°23′36″ N, long. 93°13′25″ W; to the point of beginning.

Designated altitudes. FL 180 to but not including FL 350.

Time of designation. By NOTAM issued at least 24 hours in advance.

Controlling agency. FAA, Houston ARTCC.

Using agency. U.S. Army, Joint Readiness Training Center, Fort Johnson, LA.

R-3803C Fort Johnson, LA [New]

Boundaries. Beginning at lat. 31°19′17″ N, long. 93°10′31″ W; to lat. 31°17′39″ N, long. 93°11′07″ W; to lat. 31°14′25″ N, long. 93°12′17″ W; to lat. 31°14′25″ N, long. 93°14′40″ W; to lat. 31°15′32″ N, long. 93°14′40″ W; to lat. 31°15′32″ N, long. 93°17′00″ W; to lat. 31°19′17″ N, long. 93°17′00″ W; to the point of beginning.

Designated altitudes. Surface to but not including FL 180.

Time of designation. By NOTAM issued at least 4 hours in advance.

Controlling agency. FAA, Houston ARTCC.

Using agency. U.S. Army, Joint Readiness Training Center, Fort Johnson, LA.

R-3803D Fort Johnson, LA [New]

Boundaries. Beginning at lat. 31°19′17″ N, long. 93°03′29″ W; to lat. 31°14′53″ N, long. 93°03′30″ W; to lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°19′17″ N, long. 93°10′31″ W; to the point of beginning, excluding the airspace area from the surface to and including 1,200 feet AGL beginning at lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°17′04″ N, long. 93°10′22″ W; to lat. 31°16′11″ N, long. 93°10′22″ W; to the point of beginning of the excluded area.

Designated altitudes. Surface to but not including FL 180.

Time of designation. By NOTAM issued at least 4 hours in advance.

Controlling agency. FAA, Houston ARTCC.

Using agency. U.S. Army, Joint Readiness Training Center, Fort Johnson, LA.

R-3803E Fort Johnson, LA [New]

Boundaries. Beginning at lat. 31°19′17″ N, long. 93°10′31″ W; to lat. 31°17′39″ N, long. 93°11′07″ W; to lat. 31°14′25″ N, long. 93°12′17″ W; to lat. 31°14′25″ N, long. 93°14′40″ W; to lat. 31°15′32″ N, long. 93°14′40″ W; to lat. 31°15′32″ N, long. 93°17′00″ W; to lat. 31°19′17″ N, long. 93°17′00″ W; to the point of beginning.

Designated altitudes. FL 180 to but not including FL 350.

Time of designation. By NOTAM issued at least 24 hours in advance.

Controlling agency. FAA, Houston ARTCC.

Using agency. U.S. Army, Joint Readiness Training Center, Fort Johnson, LA.

R-3803F Fort Johnson, LA [New]

Boundaries. Beginning at lat. 31°19′17″ N, long. 93°03′29″ W; to lat. 31°14′53″ N, long. 93°03′30″ W; to lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°19′17″ N, long. 93°10′31″ W; to the point of beginning.

Designated altitudes. FL 180 to but not including FL 350.

Time of designation. By NOTAM issued at least 24 hours in advance.

Controlling agency. FAA, Houston ARTCC.

Using agency. U.S. Army, Joint Readiness Training Center, Fort Johnson, LA.

R-3804A Fort Johnson, LA [New]

Boundaries. Beginning at lat. 31°00′53″ N, long. 93°08′12″ W; to lat. 31°00′53″ N, long. 92°56′53″ W; to lat. 31°00′20″ N, long. 92°56′14″ W; to lat. 31°00′20″ N, long. 92°54′23″ W; to lat. 31°03′55″ N, long. 92°51′34″ W; to lat. 31°09′35″ N, long. 92°58′25″ W; to lat. 31°09′35″ N, long. 93°00′56″ W; to lat. 31°08′43″ N, long. 93°01′55″ W; to lat. 31°08′43″ N, long. 93°08′12″ W; to the point of beginning.

Designated altitudes. Surface to FL 180.

Time of designation. By NOTAM.

Controlling agency. FAA, Houston ARTCC.

Using agency. U.S. Army, Commanding General, Fort Johnson, LA.

R-3804B Fort Johnson, LA [New]

Boundaries. Beginning at lat. 31°00′53″ N, long. 93°10′53″ W; to lat. 31°00′53″ N, long. 93°08′12″ W; to lat. 31°08′43″ N, long. 93°08′12″ W; to lat. 31°08′43″ N, long. 93°11′00″ W; to lat. 31°04′56″ N, long. 93°11′00″ W; to lat. 31°04′15″ N, long. 93°12′31″ W; to the point of beginning.

Designated altitudes. Surface to but not including 10,000 feet MSL.

Time of designation. By NOTAM.

Controlling agency. FAA, Houston ARTCC.

Using agency. U.S. Army, Commanding General, Fort Johnson, LA.

R-3804C Fort Johnson, LA [New]

Boundaries. Beginning at lat. 31°00′53″ N, long. 93°08′12″ W; to lat. 31°00′53″ N, long. 92°56′53″ W; to lat. 31°00′20″ N, long. 92°56′14″ W; to lat. 31°00′20″ N, long. 92°54′23″ W; to lat. 31°03′55″ N, long. 92°51′34″ W; to lat. 31°09′35″ N, long. 92°58′25″ W; to lat. 31°09′35″ N, long. 93°00′56″ W; to lat. 31°08′43″ N, long. 93°01′55″ W; to lat. 31°08′43″ N, long. 93°08′12″ W; to the point of beginning.

Designated altitudes. FL 180 to but not including FL 350.

Time of designation. By NOTAM 24 hours in advance.

Controlling agency. FAA, Houston ARTCC.

Using agency. U.S. Army, Commanding General, Fort Johnson, LA.

* * * * *

Issued in Washington, DC, on January 11, 2024.
Frank Lias,
Manager, Rules and Regulations Group.

[FR Doc. 2024-00807 Filed 1-16-24; 8:45 am]

BILLING CODE 4910-13-P